COMMISSION ON CIVIL RIGHTS

Notice of Public Meeting of the Florida Advisory Committee

AGENCY: U.S. Commission on Civil Rights.

ACTION: Announcement of meeting.

SUMMARY: Notice is hereby given, pursuant to the provisions of the rules and regulations of the U.S. Commission on Civil Rights (Commission) and the Federal Advisory Committee Act that the Florida Advisory Committee (Committee) will hold a public meeting on Thursday February 27, 2020, from 9 a.m.-4 p.m. Eastern Time, to hear testimony regarding voting rights in Florida.

DATES: The meeting will be held on Thursday February 27, 2020, from 9:00 a.m.-4:00 p.m. Eastern Time.

ADDRESSES: Embassy Suites Orlando, Lake Buena Vista South, 4955 Kyngs Heath Road, Kissimmee, FL 34746

FOR FURTHER INFORMATION CONTACT: Melissa Wojnaroski, DFO, at mwojnaroski@usccr.gov or 312-353-8311.

SUPPLEMENTARY INFORMATION: This meeting is open to the public. An open comment period will be provided to allow members of the public to make a statement as time allows. To request individual accommodations for persons with disabilities planning to attend, please contact the Regional Programs Unit at 312-353-8311 at least 10 days prior to the meeting.

Written comments may be mailed to the Regional Program Unit Office, U.S. Commission on Civil Rights, 230 S Dearborn St., Suite 2120, Chicago, IL 60604 within 30 days following the meeting. They may also be faxed to the Commission at (312) 353-8324 or may be emailed to Carolyn Allen at callen@usccr.gov. Records of the meeting will be available via www.facadatabase.gov under the Commission on Civil Rights, Florida Advisory Committee link. Persons interested in the work of this Committee are directed to the Commission's website, http://www.usccr.gov, or may contact the Regional Program Unit at the above email or street address.

Agenda

Opening Remarks and Introductions (9:00 a.m.-9:15 a.m.)

Panel 1: (9:15 a.m.-10:30 a.m.)

Panel 2: (10:45 a.m.-12:00 p.m.

Break (12:00 p.m.-1:30 p.m.)

Panel 3: (1:30 p.m.-2:45 p.m.)

Open Public Comment (2:45 p.m.-4:00 p.m.)

Closing Remarks (4:00 p.m.)

Dated: January 22, 2020.
David Mussatt,
Supervisory Chief, Regional Programs Unit.

[FR Doc. 2020-01381 Filed 1-27-20; 8:45 am]

BILLING CODE P